DEPARTMENT OF COMMERCE

National Oceanic and Atmospheric Administration

50 CFR Part 665

RIN 0648-XF156

Pacific Island Pelagic Fisheries; 2017 U.S. Territorial Longline Bigeye Tuna Catch Limits for the Commonwealth of the Northern Mariana Islands

AGENCY: National Marine Fisheries Service (NMFS), National Oceanic and Atmospheric Administration (NOAA), Commerce.

ACTION: Announcement of a valid specified fishing agreement.

SUMMARY: NMFS announces a valid specified fishing agreement that allocates up to 1,000 metric tons (t) of the 2017 bigeye tuna limit for the Commonwealth of the Northern Mariana Islands (CNMI) to identified U.S. longline fishing vessels. The agreement supports the long-term sustainability of fishery resources of the U.S. Pacific Islands, and fisheries development in the CNMI.

DATES: October 23, 2017.

ADDRESSES: NMFS prepared environmental analyses that describe the potential impacts on the human environment that would result from the action. Copies of those analyses, identified by NOAA-NMFS-2017-0004, are available from www.regulations.gov/#!docketDetail;D=NOAA-NMFS-2017-0004, or from Michael D. Tosatto, Regional Administrator, NMFS Pacific Islands Region (PIR), 1845 Wasp Blvd., Bldg. 176, Honolulu, HI 96818.

Copies of the Fishery Ecosystem Plan for Pelagic Fisheries of the Western Pacific Region (Pelagic FEP) are available from the Western Pacific Fishery Management Council (Council), 1164 Bishop St., Suite 1400, Honolulu, HI 96813, tel 808-522-8220, fax 808-522-8226, or www.wpcouncil.org.

FOR FURTHER INFORMATION CONTACT: Jarad Makaiau, NMFS PIRO Sustainable Fisheries, 808-725-5176.

SUPPLEMENTARY INFORMATION: In a final rule published on October 13, 2017, NMFS specified a 2017 limit of 2,000 t of longline-caught bigeye tuna for the U.S. Pacific Island territories of American Samoa, Guam and the CNMI (82 FR 47642). Of the 2,000 t limit, NMFS allows each territory to allocate up to 1,000 t to U.S. longline fishing vessels identified in a valid specified fishing agreement.

On October 6, 2017, NMFS received from the Council a specified fishing agreement between the CNMI and Quota Management, Inc. (QMI). In the transmittal memorandum, the Council's Executive Director advised that the specified fishing agreement was consistent with the criteria set forth in 50 CFR 665.819(c)(1). On October 10, 2017, NMFS reviewed the agreement and determined that it is consistent with the Pelagic FEP, the Magnuson-Stevens Fishery Conservation and Management Act, implementing regulations, and other applicable laws.

In accordance with 50 CFR 300.224(d) and 50 CFR 665.819(c)(9), vessels identified in the agreement may retain and land bigeye tuna in the western and central Pacific Ocean under the CNMI limit. NMFS began attributing bigeye tuna caught by vessels identified in the agreement to the CNMI starting on October 10, 2017. If NMFS determines that the fishery will reach the attribution limit of 1,000 t, we will restrict the retention of bigeye tuna caught by vessels identified in the agreement, unless the vessels are included in a subsequent specified fishing agreement with another U.S. territory.

Authority: 16 U.S.C. 1801 et seq.

Dated: October 19, 2017.
Alan D. Risenhoover,
Director, Office of Sustainable Fisheries, National Marine Fisheries Service.

[FR Doc. 2017-23028 Filed 10-23-17; 8:45 am]

BILLING CODE 3510-22-P